ENVIRONMENTAL PROTECTION AGENCY

[EPA-HQ-OA-2010-0757; FRL-10023-36-OMS]

Information Collection Request Submitted to OMB for Review and Approval; Comment Request; Confidential Financial Disclosure Form for Special Government Employees Serving on Federal Advisory Committees at the US Environmental Protection Agency (Renewal)

AGENCY: Environmental Protection Agency (EPA).

ACTION: Notice.

SUMMARY: The Environmental Protection Agency (EPA) has submitted an information collection request (ICR), Confidential Financial Disclosure Form for Special Government Employees Serving on Federal Advisory Committees at the US Environmental Protection Agency (EPA ICR Number 2260.07, OMB Control Number 2090-0029) to the Office of Management and Budget (OMB) for review and approval in accordance with the Paperwork Reduction Act. This is a proposed extension of the ICR, which is currently approved through June 30, 2021. Public comments were previously requested via the Federal Register during a 60-day comment period. This notice allows for an additional 30 days for public comments. A fuller description of the ICR is given below, including its estimated burden and cost to the public. An agency may not conduct or sponsor and a person is not required to respond to a collection of information unless it displays a currently valid OMB control number.

DATES: Additional comments may be submitted on or before June 1, 2021.

ADDRESSES: Submit your comments, referencing Docket ID Number EPA-HQ-OA-2010-0757, to (1) EPA online using www.regulations.gov (our preferred method), by email to Docket_OMS@epa.gov or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Toni Rousey, Office of Resources and Business Operations, Federal Advisory Committee Management Division, Mail Code 1601M, Environmental Protection Agency, 1200 Pennsylvania Ave. NW, Washington, DC 20460; telephone number: 202-564-5356; email address: rousey.toni@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The purpose of this information collection request is to assist the EPA in selecting federal advisory committee members who will be appointed as Special Government Employees (SGEs), mostly to the EPA's scientific and technical committees. Agency officials developed the “Confidential Financial Disclosure Form for Special Government Employees Serving on Federal Advisory Committees at the U.S. Environmental Protection Agency,” also referred to as Form 3110-48, for greater inclusion of information to discover any potential conflicts of interest as recommended by the Government Accountability Office.

Form Numbers: EPA Form 3110-48.

Respondents/affected entities: Entities potentially affected by this action are approximately 325 candidates for membership as SGEs on EPA federal advisory committees. SGEs are required to file a confidential financial disclosure report (Form 3110-48) when first appointed to serve on EPA advisory committees, and then annually thereafter. Committee members may also be required to update the confidential form before each meeting while they serve as SGEs.

Respondent's obligation to respond: Required to serve as an SGE on an EPA federal advisory committee (5 CFR 2634.903).

Estimated number of respondents: 325 (total).

Frequency of response: Once and annually.

Total estimated burden: 325 hours per year (annually). Burden is defined at 5 CFR 1320.03(b).

Total estimated cost: $35,880 (per year), includes $0 annualized capital or operation & maintenance costs.

Changes in the Estimates: There is a decrease of 175 hours in the total estimated respondent burden compared with the ICR currently approved by OMB. This change is due to a decrease in the estimated number of respondents (from 500 to 325).

Courtney Kerwin,
Director, Regulatory Support Division.

[FR Doc. 2021-09018 Filed 4-29-21; 8:45 am]

BILLING CODE 6560-50-P